DEPARTMENT OF TRANSPORTATION

Pipeline and Hazardous Materials Safety Administration

[Docket No. PHMSA-2015-0104; Notice No. 15-09]

Hazardous Materials: Explosive Approvals—Applicant Contact Information and Compliance With Special Provision 347

AGENCY: Pipeline and Hazardous Materials Safety Administration (PHMSA), DOT.

ACTION: Proposed termination of explosive approvals.

SUMMARY: PHMSA proposes to terminate the explosive approvals listed herein. PHMSA attempted to contact all of the below listed approval holders during the month of October 2014 via certified mail utilizing the addresses on file. The certified letters were returned by the United States Postal Service (USPS) as “undeliverable.” With the failure of the explosive approval holders to provide PHMSA with a valid company name and mailing address, the approvals listed below will be terminated 30 days after this notice is published in the Federal Register.

FOR FURTHER INFORMATION CONTACT: Mr. Ryan Paquet, Director, Approvals and Permits Division, Office of Hazardous Materials Safety, (202) 366-4512, PHMSA, 1200 New Jersey Avenue SE., Washington, DC 20590.

SUPPLEMENTARY INFORMATION:

I. Introduction

In this notice, PHMSA's Office of Hazardous Materials Safety (OHMS) is proposing to terminate the approvals listed below for the approval holders' failure to provide PHMSA with current valid contact information and failure to provide evidence that UN 6(d) testing has been performed in accordance with § 172.102 and Special Provision 347.

II. Background

On January 19, 2011, PHMSA published a final rule (76 FR 3308; HM-215K) titled “Hazardous Materials: Harmonization with the United Nations Recommendations, International Maritime Dangerous Goods Code, and the International Civil Aviation Organization Technical Instructions for the Safe Transport of Dangerous Goods by Air”. The final rule amended special provision 347 to require successful testing according to UN Test Series 6(d) of Part I of the UN Manual of Tests and Criteria. This change affected explosives classified as Division 1.4S, and impacted eight UN Numbers, including: UN0323, UN0366, UN0441, UN0445, UN0455, UN0456, UN0460, and UN0500. This requirement became effective for transportation by aircraft on July 1, 2011, for transportation by vessel and international transportation by highway and rail on January 1, 2012, and for domestic highway and rail transportation on January 1, 2014. PHMSA has no records of the required UN 6(d) testing for the below listed EX number(s) and has no valid contact information for the holders.

III. Action

PHMSA will terminate the below listed approvals 30 days after this notice is published in the Federal Register, unless the holder requests reconsideration as outlined in 49 CFR 107.715.

IV. Approvals Scheduled for Termination

EX No. | Holder/Company
EX1980120002 | Universal Propulsion Co., Inc. (form. Space Ordn.).
EX1980120003 | Universal Propulsion Co., Inc. (form. Space Ordn.).
EX1980120004 | Universal Propulsion Co., Inc. (form. Space Ordn.).
EX1980120005 | Universal Propulsion Co., Inc. (form. Space Ordn.).
EX1981010001 | OEA Aerospace, Inc. (formerly ET, Inc.).
EX1982050030 | IRECO, Incorporated.
EX1983090243 | Western Atlas International.
EX1983100226 | OEA, Inc.
EX1983120221 | Owen Oil Tools, Inc.
EX1983120222 | Owen Oil Tools, Inc.
EX1983120223 | Owen Oil Tools, Inc.
EX1983120224 | Owen Oil Tools, Inc.
EX1983120225 | Owen Oil Tools, Inc.
EX1983120226 | Owen Oil Tools, Inc.
EX1983120227 | Owen Oil Tools, Inc.
EX1983120228 | Owen Oil Tools, Inc.
EX1983120229 | Owen Oil Tools, Inc.
EX1983120232 | Owen Oil Tools, Inc.
EX1983120234 | Owen Oil Tools, Inc.
EX1983120236 | Owen Oil Tools, Inc.
EX1983120238 | Owen Oil Tools, Inc.
EX1983120239 | Owen Oil Tools, Inc.
EX1983120240 | Owen Oil Tools, Inc.
EX1983120241 | Owen Oil Tools, Inc.
EX1983120242 | Owen Oil Tools, Inc.
EX1983120244 | Owen Oil Tools, Inc.
EX1983120245 | Owen Oil Tools, Inc.
EX1983120246 | Owen Oil Tools, Inc.
EX1983120248 | Owen Oil Tools, Inc.
EX1983120250 | Owen Oil Tools, Inc.
EX1983120251 | Owen Oil Tools, Inc.
EX1983120252 | Owen Oil Tools, Inc.
EX1983120253 | Owen Oil Tools, Inc.
EX1983120254 | Owen Oil Tools, Inc.
EX1983120255 | Owen Oil Tools, Inc.
EX1983120256 | Owen Oil Tools, Inc.
EX1983120257 | Owen Oil Tools, Inc.
EX1983120258 | Owen Oil Tools, Inc.
EX1983120259 | Owen Oil Tools, Inc.
EX1983120260 | Owen Oil Tools, Inc.
EX1983120261 | Owen Oil Tools, Inc.
EX1983120262 | Owen Oil Tools, Inc.
EX1983120263 | Owen Oil Tools, Inc.
EX1983120264 | Owen Oil Tools, Inc.
EX1983120265 | Owen Oil Tools, Inc.
EX1983120266 | Owen Oil Tools, Inc.
EX1983120267 | Owen Oil Tools, Inc.
EX1983120268 | Owen Oil Tools, Inc.
EX1983120270 | Owen Oil Tools, Inc.
EX1983120272 | Owen Oil Tools, Inc.
EX1983120274 | Owen Oil Tools, Inc.
EX1983120275 | Owen Oil Tools, Inc.
EX1983120276 | Owen Oil Tools, Inc.
EX1983120277 | Owen Oil Tools, Inc.
EX1983120278 | Owen Oil Tools, Inc.
EX1983120281 | Owen Oil Tools, Inc.
EX1983120282 | Owen Oil Tools, Inc.
EX1983120283 | Owen Oil Tools, Inc.
EX1983120284 | Owen Oil Tools, Inc.
EX1983120285 | Owen Oil Tools, Inc.
EX1983120286 | Owen Oil Tools, Inc.
EX1983120287 | Owen Oil Tools, Inc.
EX1983120290 | Owen Oil Tools, Inc.
EX1983120292 | Owen Oil Tools, Inc.
EX1983120293 | Owen Oil Tools, Inc.
EX1983120294 | Owen Oil Tools, Inc.
EX1983120295 | Owen Oil Tools, Inc.
EX1983120296 | Owen Oil Tools, Inc.
EX1983120297 | Owen Oil Tools, Inc.
EX1983120298 | Owen Oil Tools, Inc.
EX1983120300 | Owen Oil Tools, Inc.
EX1983120302 | Owen Oil Tools, Inc.
EX1983120304 | Owen Oil Tools, Inc.
EX1983120306 | Owen Oil Tools, Inc.
EX1983120307 | Owen Oil Tools, Inc.
EX1983120308 | Owen Oil Tools, Inc.
EX1983120309 | Owen Oil Tools, Inc.
EX1983120312 | Owen Oil Tools, Inc.
EX1984010007 | J. G. Dapkus Company, Inc.
EX1984020312 | Accurate Energetic Systems, LLC.
EX1984020313 | Accurate Energetic Systems, LLC.
EX1984020314 | Accurate Energetic Systems, LLC.
EX1984030026 | IRECO, Incorporated.
EX1984030029 | IRECO, Incorporated.
EX1984030030 | IRECO, Incorporated.
EX1984030031 | IRECO, Incorporated.
EX1984030032 | IRECO, Incorporated.
EX1984040270 | Accurate Energetic Systems, LLC.
EX1984040271 | Accurate Energetic Systems, LLC.
EX1984040273 | Accurate Energetic Systems, LLC.
EX1984040278 | Accurate Energetic Systems, LLC.
EX1984040279 | Accurate Energetic Systems, LLC.
EX1984040288 | Accurate Energetic Systems, LLC.
EX1984040398 | Universal Propulsion Company, Inc.
EX1984050014 | Special Devices, Inc. (formerly Walter Kidde, Aerospace Operations).
EX1984050015 | Special Devices, Inc. (formerly Walter Kidde, Aerospace Operations).
EX1984050016 | Special Devices, Inc. (formerly Walter Kidde, Aerospace Operations).
EX1984050017 | Special Devices, Inc. (formerly Walter Kidde, Aerospace Operations).
EX1984050018 | Special Devices, Inc. (formerly Walter Kidde, Aerospace Operations).
EX1984050019 | Special Devices, Inc. (formerly Walter Kidde, Aerospace Operations).
EX1985100053 | Western Atlas International.
EX1985100054 | Western Atlas International.
EX1985100055 | Western Atlas International.
EX1986010022 | Kidde-Fenwal, Inc. (formerly Fenwal Safety Systems, Inc.) (Fenwal, Inc.).
EX1986010023 | Kidde-Fenwal, Inc. (formerly Fenwal Safety Systems, Inc.) (Fenwal, Inc.).
EX1986010024 | Fenwal Safety Systems, Inc. (Fenwal, Inc.).
EX1986040051K | Olin Corporation.
EX1986040051L | Olin Corporation.
EX1986040051O | Olin Corporation.
EX1986040051P | Olin Corporation.
EX1986110020 | Universal Propulsion Company, Inc.
EX1986110021 | Universal Propulsion Company, Inc.
EX1986110023 | Universal Propulsion Company, Inc.
EX1987030052 | OEA, Inc.
EX1987030053A | OEA, Inc.
EX1987040110 | Western Atlas International.
EX1987060009 | Western Atlas International.
EX1987060010 | Western Atlas International.
EX1987060011 | Western Atlas International.
EX1987060012 | Western Atlas International.
EX1987060013 | Western Atlas International.
EX1987060015 | Western Atlas International.
EX1987060016 | Western Atlas International.
EX1987060017 | Western Atlas International.
EX1987060018 | Western Atlas International.
EX1987060019 | Western Atlas International.
EX1987070087 | OEA Aerospace, Inc. (formerly ET, Inc.).
EX1987070185 | Western Atlas International.
EX1987070186 | Western Atlas International.
EX1987090044 | Accurate Energetic Systems, LLC.
EX1987090045 | Accurate Energetic Systems, LLC.
EX1987090046 | Accurate Energetic Systems, LLC.
EX1987100240 | OEA, Inc.
EX1987100331 | OEA, Inc.
EX1987110029 | UniDynamics Phoenix, Inc.
EX1988010031 | OEA, Inc.
EX1988010142 | Western Atlas International.
EX1988010143 | Western Atlas International.
EX1988010144 | Western Atlas International.
EX1988060131 | IRECO, Incorporated.
EX1988070009 | OEA, Inc.
EX1988070199 | IRECO, Incorporated.
EX1988070221 | Scot, Inc.
EX1988080059 | OEA, Inc.
EX1988090088 | OEA, Inc.
EX1988090117 | IRECO, Incorporated.
EX1988100153 | Western Atlas International.
EX1988100154 | Western Atlas International.
EX1988110121 | Scot, Inc.
EX1988110187A | OEA, Inc.
EX1988110190 | Western Atlas International.
EX1988110191 | Western Atlas International.
EX1988110192 | Western Atlas International.
EX1988120026 | Western Atlas International.
EX1988120027 | Western Atlas International.
EX1988120028 | Western Atlas International.
EX1989010062 | IRECO, Incorporated.
EX1989010064 | IRECO, Incorporated.
EX1989010208 | Western Atlas International.
EX1989010209 | Western Atlas International.
EX1989010210 | Western Atlas International.
EX1989010270 | Accurate Energetic Systems, LLC.
EX1989070040 | Accurate Energetic Systems, LLC.
EX1989090006 | Baker Hughes (formerly Western Atlas International).
EX1989090033 | OEA, Inc.
EX1989100038 | OEA, Inc.
EX1989100039 | OEA, Inc.
EX1989100070 | IRECO, Incorporated.
EX1989120132 | Tracor Aerospace, Inc.
EX1990050086 | OEA, Inc.
EX1990050113 | Western Atlas International.
EX1990050114 | Western Atlas International.
EX1990060128 | Mecano-Tech, Inc.
EX1990060129 | Mecano-Tech, Inc.
EX1990070038 | Western Atlas International (form. Dresser Atlas).
EX1990070039 | Western Atlas International (form. Dresser Atlas).
EX1990070085 | Jet Research Center, Inc.
EX1990070086 | Jet Research Center, Inc.
EX1990070087 | Jet Research Center, Inc.
EX1990070088 | Jet Research Center, Inc.
EX1990070089 | Jet Research Center, Inc.
EX1990070090 | Jet Research Center, Inc.
EX1990070091 | Jet Research Center, Inc.
EX1990070092 | Jet Research Center, Inc.
EX1990070093 | Jet Research Center, Inc.
EX1990070094 | Accurate Energetic Systems, LLC.
EX1990070095 | Accurate Energetic Systems, LLC.
EX1990070096 | Accurate Energetic Systems, LLC.
EX1990070097 | Accurate Energetic Systems, LLC.
EX1990070098 | Accurate Energetic Systems, LLC.
EX1990070099 | Accurate Energetic Systems, LLC.
EX1990070100 | Accurate Energetic Systems, LLC.
EX1990070101 | Accurate Energetic Systems, LLC.
EX1990070102 | Accurate Energetic Systems, LLC.
EX1990070103 | Accurate Energetic Systems, LLC.
EX1990070104 | Accurate Energetic Systems, LLC.
EX1990080010 | IRECO, Incorporated.
EX1990080018 | Woerner Engineering, Inc.
EX1990090125 | Technical Ordnance, Inc.
EX1990090126 | Technical Ordnance, Inc.
EX1990090128 | Technical Ordnance, Inc.
EX1990090129 | Technical Ordnance, Inc.
EX1990090130 | Technical Ordnance, Inc.
EX1990090131 | Technical Ordnance, Inc.
EX1990090132 | Technical Ordnance, Inc.
EX1990090133 | Technical Ordnance, Inc.
EX1990090134 | Technical Ordnance, Inc.
EX1990090135 | Technical Ordnance, Inc.
EX1990090136 | Technical Ordnance, Inc.
EX1990090137 | Technical Ordnance, Inc.
EX1990090138 | Technical Ordnance, Inc.
EX1990090139 | Technical Ordnance, Inc.
EX1990090140 | Technical Ordnance, Inc.
EX1990090149 | Western Atlas International (form. Dresser Atlas).
EX1990090150 | Western Atlas International (form. Dresser Atlas).
EX1990090151 | Western Atlas International (form. Dresser Atlas).
EX1990090152 | Whittaker Ordnance.
EX1990090153 | Whittaker Ordnance.
EX1990090154 | Whittaker Ordnance.
EX1990090155 | Whittaker Ordnance.
EX1990090156 | Whittaker Ordnance.
EX1990090157 | Whittaker Ordnance.
EX1990090158 | Whittaker Ordnance.
EX1990100029 | Technical Ordnance, Inc.
EX1990100100 | TRW Safety Systems/Mesa.
EX1990110060 | Talley Defense Systems, Inc.
EX1990110061 | Talley Defense Systems, Inc.
EX1990110062 | Talley Defense Systems, Inc.
EX1990110063 | Talley Defense Systems, Inc.
EX1990110133 | Ordtronex Corporation.
EX1991010052 | Shaped Charge Specialist, Inc.
EX1991010053 | Shaped Charge Specialist, Inc.
EX1991010054 | Shaped Charge Specialist, Inc.
EX1991010055 | Shaped Charge Specialist, Inc.
EX1991010056 | Shaped Charge Specialist, Inc.
EX1991010057 | Shaped Charge Specialist, Inc.
EX1991010058 | Shaped Charge Specialist, Inc.
EX1991010059 | Shaped Charge Specialist, Inc.
EX1991010060 | Shaped Charge Specialist, Inc.
EX1991010061 | Shaped Charge Specialist, Inc.
EX1991010062 | Shaped Charge Specialist, Inc.
EX1991010063 | Shaped Charge Specialist, Inc.
EX1991010064 | Shaped Charge Specialist, Inc.
EX1991010065 | Shaped Charge Specialist, Inc.
EX1991010066 | Shaped Charge Specialist, Inc.
EX1991010197 | Walter Kidde Aerospace, Inc.
EX1991020088 | Universal Propulsion Company, Inc.
EX1991020089 | Universal Propulsion Company, Inc.
EX1991020090 | Universal Propulsion Company, Inc.
EX1991020180 | Technical Ordnance, Inc.
EX1991030095 | Technical Ordnance, Inc.
EX1991030095A | Technical Ordnance, Inc.
EX1991030106 | Whittaker Ordnance.
EX1991030107 | Whittaker Ordnance.
EX1991030109 | Whittaker Ordnance.
EX1991050107 | Alliant Techsystems, Inc.
EX1991050108 | Alliant Techsystems, Inc.
EX1991060018 | Quantic Industries, Inc.
EX1991060028 | Unidynamics Phoenix, Inc.
EX1991060196 | Walter Kidde Aerospace, Inc.
EX1991060231 | Mecano-Tech, Inc.
EX1991060232 | Mecano-Tech, Inc.
EX1991060233 | Mecano-Tech, Inc.
EX1991060234 | Mecano-Tech, Inc.
EX1991060235 | Mecano-Tech, Inc.
EX1991060236 | Mecano-Tech, Inc.
EX1991060254 | Scot, Inc.
EX1991060255 | Scot, Inc.
EX1991060256 | Scot, Inc.
EX1991060287 | OEA, Inc.
EX1991090138 | Cadillac Motor Car Division General Motors Corp.
EX1991090139 | Cadillac Motor Car Division General Motors Corp.
EX1991090140 | Cadillac Motor Car Division General Motors Corp.
EX1991090141 | Cadillac Motor Car Division General Motors Corp.
EX1991090142 | Cadillac Motor Car Division General Motors Corp.
EX1991090143 | Cadillac Motor Car Division General Motors Corp.
EX1991090144 | Cadillac Motor Car Division General Motors Corp.
EX1991090145 | Cadillac Motor Car Division General Motors Corp.
EX1991090146 | Cadillac Motor Car Division General Motors Corp.
EX1991090147 | Cadillac Motor Car Division General Motors Corp.
EX1991110064 | Aerospatiale Helicopter Corporation.
EX1991110065 | Aerospatiale Helicopter Corporation.
EX1991110066 | Aerospatiale Helicopter Corporation.
EX1991110067 | Aerospatiale Helicopter Corporation.
EX1991110068 | Aerospatiale Helicopter Corporation.
EX1991110069 | Aerospatiale Helicopter Corporation.
EX1991110070 | Aerospatiale Helicopter Corporation.
EX1991110071 | Aerospatiale Helicopter Corporation.
EX1991110072 | Aerospatiale Helicopter Corporation.
EX1991110073 | Aerospatiale Helicopter Corporation.
EX1991110074 | Aerospatiale Helicopter Corporation.
EX1991110075 | Aerospatiale Helicopter Corporation.
EX1991110076 | Aerospatiale Helicopter Corporation.
EX1991110077 | Aerospatiale Helicopter Corporation.
EX1991110078 | Aerospatiale Helicopter Corporation.
EX1991110079 | Aerospatiale Helicopter Corporation.
EX1991110080 | Aerospatiale Helicopter Corporation.
EX1991110081 | Aerospatiale Helicopter Corporation.
EX1991110082 | Aerospatiale Helicopter Corporation.
EX1991110083 | Aerospatiale Helicopter Corporation.
EX1991110084 | Aerospatiale Helicopter Corporation.
EX1991110086 | Aerospatiale Helicopter Corporation.
EX1991110087 | Aerospatiale Helicopter Corporation.
EX1991110088 | Aerospatiale Helicopter Corporation.
EX1991110089 | Aerospatiale Helicopter Corporation.
EX1991110090 | Aerospatiale Helicopter Corporation.
EX1991110091 | Aerospatiale Helicopter Corporation.
EX1991110092 | Aerospatiale Helicopter Corporation.
EX1991110093 | Aerospatiale Helicopter Corporation.
EX1991110094 | Aerospatiale Helicopter Corporation.
EX1991110095 | Aerospatiale Helicopter Corporation.
EX1991110096 | Aerospatiale Helicopter Corporation.
EX1991110097 | Aerospatiale Helicopter Corporation.
EX1991110098 | Aerospatiale Helicopter Corporation.
EX1991110099 | Aerospatiale Helicopter Corporation.
EX1991110100 | Aerospatiale Helicopter Corporation.
EX1991110101 | Aerospatiale Helicopter Corporation.
EX1991110102 | Aerospatiale Helicopter Corporation.
EX1991110103 | Aerospatiale Helicopter Corporation.
EX1991110104 | Aerospatiale Helicopter Corporation.
EX1991110105 | Aerospatiale Helicopter Corporation.
EX1991110106 | Aerospatiale Helicopter Corporation.
EX1991110107 | Aerospatiale Helicopter Corporation.
EX1991110108 | Aerospatiale Helicopter Corporation.
EX1991120040 | OEA, Inc.
EX1992010149 | Western Atlas International (form. Dresser Atlas).
EX1992010150 | Western Atlas International (form. Dresser Atlas).
EX1992010151 | Western Atlas International (form. Dresser Atlas).
EX1992010152 | Western Atlas International (form. Dresser Atlas).
EX1992010153 | Western Atlas International (form. Dresser Atlas).
EX1992010154 | Western Atlas International (form. Dresser Atlas).
EX1992020124 | Conax Florida Corporation.
EX1992030431 | Falcon Jet Corporation.
EX1992030432 | Falcon Jet Corporation.
EX1992030433 | Falcon Jet Corporation.
EX1992030434 | Falcon Jet Corporation.
EX1992040044 | Technical Ordnance, Inc.
EX1992040045 | Technical Ordnance, Inc.
EX1992040269 | Falcon Jet Corporation.
EX1992060065 | Walter Kidde Aerospace, Inc.
EX1992060066 | Walter Kidde Aerospace, Inc.
EX1992070063 | Baker Hughes (formerly Western Atlas International).
EX1992070064 | Baker Hughes (formerly Western Atlas International).
EX1992070065 | Baker Hughes (formerly Western Atlas International).
EX1992100238 | Western Atlas International (form. Dresser Atlas).
EX1992100239 | Western Atlas International (form. Dresser Atlas).
EX1992120053 | OEA, Inc.
EX1992120130 | Baker Hughes (formerly Western Atlas International).
EX1992120131 | Baker Hughes (formerly Western Atlas International).
EX1992120132 | Baker Hughes (formerly Western Atlas International).
EX1992120133 | Baker Hughes (formerly Western Atlas International).
EX1993020028 | OEA, Inc.
EX1993050173 | ICI Explosives—Aerospace & Automotive Products.
EX1993060155 | OEA, Inc.
EX1993070016 | BHT Products, Inc.
EX1993070017 | BHT Products, Inc.
EX1993070019 | BHT Products, Inc.
EX1993070020 | BHT Products, Inc.
EX1993070021 | BHT Products, Inc.
EX1993080242 | Western Atlas International (form. Dresser Atlas).
EX1993080243 | Western Atlas International (form. Dresser Atlas).
EX1993080244 | Western Atlas International (form. Dresser Atlas).
EX1993080245 | Western Atlas International (form. Dresser Atlas).
EX1993080246 | Western Atlas International (form. Dresser Atlas).
EX1993090030 | OEA, Inc.
EX1993100267 | OEA, Inc.
EX1993100268 | OEA, Inc.
EX1993110117 | BHT Products, Inc.
EX1993110118 | BHT Products, Inc.
EX1993110273 | OEA, Inc.
EX1993120121 | Olin Corporation—Winchester Division.
EX1993120137 | Ashimori Industry Co., Ltd.
EX1993120138 | Ashimori Industry Co., Ltd.
EX1994020117 | Western Atlas International (form. Dresser Atlas).
EX1994030007 | High Energy International, Inc. (HEI).
EX1994030008 | High Energy International, Inc. (HEI).
EX1994030009 | High Energy International, Inc. (HEI).
EX1994030010 | High Energy International, Inc. (HEI).
EX1994030011 | High Energy International, Inc. (HEI).
EX1994030012 | High Energy International, Inc. (HEI).
EX1994030013 | High Energy International, Inc. (HEI).
EX1994030014 | High Energy International, Inc. (HEI).
EX1994030057 | Olin Corporation—Winchester Division.
EX1994030058 | Olin Corporation—Winchester Division.
EX1994050229 | OEA, Inc.
EX1994060076 | OEA, Inc.
EX1994060077 | OEA, Inc.
EX1994070273 | TAAS Israel Industries Ltd.(form. Israel Military).
EX1994080121 | Rockwell International Corporation.
EX1994090078 | Dynamit Nobel AG.
EX1994090079 | Dynamit Nobel AG.
EX1994090080 | Dynamit Nobel AG.
EX1994090081 | Dynamit Nobel AG.
EX1994100103 | Ministry of Defence.
EX1995010114 | Hi-Shear Technology Corp. (Owen Compliance Svcs.).
EX1995070015 | Alliant Techsystems, Inc.
EX1995090005 | Baker Oil Tools (formerly Baker Service Tools).
EX1995100039 | ICI Explosives USA, Inc.
EX1995100040 | ICI Explosives USA, Inc.
EX1995100139 | Walter Kidde Aerospace, Inc.
EX1995100159 | TRW Vehicle Safety Systems, Inc.
EX1995100159A | TRW Vehicle Safety Systems, Inc.
EX1995120033 | ICI Explosives USA, Inc.
EX1996010080 | ICI Explosives USA, Inc.
EX1996010081 | ICI Explosives USA, Inc.
EX1996100137 | Dynamit Nobel GmbH.
EX1997010130 | Networks Electronic Corporation.
EX1997010131 | TEMIC Bayern-Chemie Airbag GmbH.
EX1997010132 | TEMIC Bayern-Chemie Airbag GmbH.
EX1997060032 | ML Aviation Limited.
EX1997090019 | Dynamit Nobel GmbH.
EX1997090021 | Dynamit Nobel GmbH.
EX1997090022 | Dynamit Nobel GmbH.
EX1997090023 | Dynamit Nobel GmbH.
EX1997090024 | Dynamit Nobel GmbH.
EX1997090025 | Dynamit Nobel GmbH.
EX1997090026 | Dynamit Nobel GmbH.
EX1997090027 | Dynamit Nobel GmbH.
EX1997090028 | Dynamit Nobel GmbH.
EX1997090030 | Dynamit Nobel GmbH.
EX1997090031 | Dynamit Nobel GmbH.
EX1997090032 | Dynamit Nobel GmbH.
EX1997090134 | Technical Ordnance, Inc.
EX1997100043 | Fenwal Safety Systems, Inc.
EX1997110024 | Scot, Inc.
EX1998030099 | Dynamit Nobel GmbH.
EX1998030100 | Dynamit Nobel GmbH.
EX1998030101 | Dynamit Nobel GmbH.
EX1998030102 | Dynamit Nobel GmbH.
EX1998030103 | Dynamit Nobel GmbH.
EX1998050003 | Lucas Aerospace Power Systems.
EX1999030158 | Dyno Nobel North America, (Formerly, The Ensign-Bickford Company).
EX1999070075 | Mass Systems, Inc.
EX1999070210 | Advanced Concept Development, Inc.
EX1999070211 | Advanced Concept Development, Inc.
EX1999100227 | PyroAlliance.
EX1999120055 | Dyno Nobel North America, (Formerly, The Ensign-Bickford Company).
EX2000040106 | Quantic Industries, Inc.
EX2000080055 | O'Brien Design Associates, Inc.
EX2000090045 | Titan Completion Products, Ltd.
EX2000090083 | Rocktek USA Ltd.
EX2000090124 | Rocktek USA Ltd.
EX2000120142 | Technical Ordnance, Inc.

Issued in Washington, DC on April 7, 2015 under authority delegated in 49 CFR Part 106.
Magdy El-Sibaie,
Associate Administrator for Hazardous Materials Safety, Pipeline and Hazardous Materials Safety Administration.

[FR Doc. 2015-08470 Filed 4-13-15; 8:45 am]

BILLING CODE 4910-60-P